DEPARTMENT OF COMMERCE

International Trade Administration

A-583-816

Certain Stainless Steel Butt-Weld Pipe Fittings from Taiwan: Notice of Extension of Time Limit for Preliminary Results in Antidumping Duty Administrative Review

AGENCY: Import Administration, International Trade Administration, Department of Commerce.

EFFECTIVE DATE: February 22, 2007.

FOR FURTHER INFORMATION CONTACT: Helen Kramer or Judy Lao, AD/CVD Operations, Office 7, Import Administration, International Trade Administration, U.S. Department of Commerce, 14th Street and Constitution, NW, Washington DC 20230; telephone: (202) 482-0405 and (202) 482-7924, respectively.

SUPPLEMENTARY INFORMATION:

Background

On June 2, 2006, the Department of Commerce (“the Department”) published a notice of opportunity to request an administrative review of the antidumping duty order on stainless steel butt-weld pipe fittings from Taiwan for the period of review (“POR”) of June 1, 2005, through May 31, 2006. See Antidumping or Countervailing Duty Order, Finding, or Suspended Investigation, Opportunity to Request Administrative Review; 71 FR 32032 (June 2, 2006). On June 22, 2006, Flowline Division of Markovitz Enterprises, Inc. (“Flowline Division”), Gerlin, Inc., Shaw Alloy Piping Products, Inc., and Taylor Forge Stainless, Inc. (collectively, “petitioners”) requested an antidumping duty administrative review for Ta Chen Stainless Pipe Co., Ltd. (“Ta Chen”), Liang Feng Stainless Steel Fitting Co., Ltd., Tru-Flow Industrial Co., Ltd., Censor International Corporation, and PFP Taiwan Co., Ltd. On June 29, 2006, Ta Chen requested an administrative review of its sales to the United States during the POR. On July 27, 2006, the Department published the notice initiating this administrative review. See Initiation of Antidumping and Countervailing Duty Administrative Reviews and Request for Revocation In Part, 71 FR 42626 (July 27, 2006). The preliminary results are currently due not later than March 2, 2007.

Extension of Time Limits for Preliminary Results of Review

Pursuant to section 751(a)(3)(A) of the Tariff Act of 1930, as amended (“the Act”), and 19 CFR § 351.213(h)(2), the Department may extend the deadline for completion of the preliminary results of a review by 120 days if it determines that it is not practicable to complete the preliminary results within 245 days after the last day of the anniversary month of the date of publication of the order for which the administrative review was requested. Due to the complexity of the issues involved and the time required to analyze Ta Chen's supplemental questionnaire responses, as well as the demands of other proceedings handled by the office administering this review, the Department has determined that it is not practicable to complete this review within the original time period. Accordingly, the Department is extending the time limit for the preliminary results by 120 days, to not later than July 2, 2007, in accordance with Section 751(a)(3)(A) of the Act. The deadline for the final results of this review will continue to be 120 days after publication of the preliminary results.

This notice is published in accordance with sections 751(a)(3)(A) and 777(i) of the Act.

Dated: February 13, 2007.
Stephen J. Claeys,
Deputy Assistant Secretary for Import Administration.

[FR Doc. E7-2901 Filed 2-21-07; 8:45 am]

BILLING CODE 3510-DS-S